DEPARTMENT OF ENERGY

10 CFR Part 1000

[DOE-HQ-2025-0018]

RIN 1990-AA53

Rescinding Obsolete Transfer of Proceedings Regulations

AGENCY: Office of the General Counsel, Department of Energy (DOE).

ACTION: Direct final rule; delay of effective date; response to comments.

SUMMARY: The Department of Energy (“DOE”) is publishing this document to respond to comments received on the direct final rule rescinding regulations outlining the 1977 transfer of proceedings to DOE from its predecessor agencies that published on May 16, 2025. As a result, DOE delays the effective date of the direct final rule.

DATES: As of July 14, 2025, the effective date of the direct final rule published May 16, 2025, at 90 FR 20772, is delayed until August 13, 2025.

FOR FURTHER INFORMATION CONTACT: Mr. Jeffrey Novak, U.S. Department of Energy, Office of the General Counsel, General Counsel, 1000 Independence Avenue SW, Washington, DC 20585-0121; (202) 586-5281 or DOEGeneralCounsel@hq.doe.gov.

SUPPLEMENTARY INFORMATION:

I. May 2025 Direct Final Rule

DOE is rescinding part 1000 of title 10, Code of Federal Regulations by this rule. In 1977, the Department of Energy Organization Act (Pub. L. 95-91) consolidated certain functions previously performed by several Federal agencies within DOE, including the Federal Energy Regulatory Commission (FERC). Part 1000 outlined which certain of these functions and proceedings would be transferred to the jurisdiction of the Secretary of Energy and which would be transferred to the jurisdiction of FERC. Section 1000.1 lists certain categories of proceedings as well as specific then-pending proceedings to be transferred to DOE or FERC. These transfers of functions occurred over 47 years ago. This part is now obsolete. DOE therefore rescinds part 1000 in its entirety. The authority for this rule is the Department of Energy Organization Act, Public Law 95-91, 91 Stat. 567.

II. Response to Comments

On May 16, 2025, DOE published a direct final rule rescinding 10 CFR part 1000 and sought comments on the rescission. 90 FR 20772 (May 2025 DFR). In response, DOE received two comments from members of the public but only one comment was relevant to the May 2025 DFR.

Table II.1—List of Commenters From the May 2025 DFR
Commenter | Reference in this rule | Comment No. in the docket | Commenter type
Bridget Dooling | Dooling | 2 | Individual.
Anonymous | Anonymous | 3 | Individual.

A. Response to Administrative Procedure Act's Procedural Comments

DOE received one significant adverse comment from Bridget C.E. Dooling, which raised several procedural matters for DOE's consideration and also incorporated another comment by reference. (DOE-HQ-2025-0018-0002).

In response, DOE notes that the APA requires that agencies provide all interested persons with fair notice and an opportunity to comment on the rulemaking. See 5 U.S.C. 553(b) & (c). The May 2025 DFR provided the public with fair notice of DOE's rescission of the 1977 transfer of proceedings. See 90 FR 20772. DOE also requested comments on the May 2025 DFR, and stated, if the Department received significant adverse comments, the Department would withdraw the rule or issue a new final rule which responds to such comments. 90 FR 20772. Thus, DOE provided interested persons with fair notice and an opportunity to comment as required by the APA. As a result, there was no need for a good cause exemption from notice-and-comment rulemaking under 5 U.S.C. 553(b).

Finally, contrary to the comments, Dooling cannot argue they were denied fair notice and an opportunity to comment solely based on how the notice was labeled. See Little Sisters of the Poor Saints Peter & Paul Home v. Pennsylvania, 140 S. Ct. 2367, 2384 (2020) (holding that “[f]ormal labels aside, the [interim final rules] contained all of the elements of a notice of proposed rulemaking as required by the APA”). Irrespective of its title, the May 2025 DFR contained the required elements of a proposed rulemaking under the APA.

While adverse, DOE has determined that this comment does not prevent DOE from finalizing this rule and rescinding 10 CFR part 1000 as discussed previously.

B. Response to Other Comments

DOE also received an anonymous comment in response to the direct final rule, which was outside the scope of the topics at issue for this rulemaking. (DOE-HQ-2025-0018-0003). As such, DOE is not required to prepare a response to this comment.

III. Conclusion

For the reasons discussed in the May 2025 DFR and reiterated in the preceding sections of this document, DOE is not withdrawing the May 2025 DFR, which finalizes a rescission of 10 CFR part 1000.

DOE also notes, to the extent that 5 U.S.C. 553 applies to the delay of effective date, it is exempt from notice and comment because it constitutes a rule of procedure under 5 U.S.C. 553(b)(A) and for which no notice or hearing is required by statute. Additionally, this action is not a “substantive rule” for which a 30-day delay in effective date is required under 5 U.S.C. 553(d).

Signing Authority

This document of the Department of Energy was signed on July 9, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 10, 2025.
Treena V. Garrett,
Federal Register Liaison Officer, U.S. Department of Energy.

[FR Doc. 2025-13135 Filed 7-11-25; 8:45 am]

BILLING CODE 6450-01-P